UNIFIED CARRIER REGISTRATION PLAN

Sunshine Act Meetings

TIME AND DATE: June 6, 2024, 12:00 p.m. to 3:00 p.m., Eastern Time.

PLACE: The meeting will be accessible via conference call and via Zoom Meeting and Screenshare. Any interested person may call (i) 1-929-205-6099 (US Toll) or 1-669-900-6833 (US Toll), Meeting ID: 974 8697 3648, to listen and participate in this meeting. The website to participate via Zoom Meeting and Screenshare is https://kellen.zoom.us/meeting/register/tJMpf--hqTgsHtwOera1wJreBG0lbnOSQVV.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the April 4, 2024, UCR Board Meeting—UCR Board Chair

For Discussion and Possible Board Action

Draft Minutes from the April 4, 2024, UCR Board meeting will be reviewed. The Board will consider action to approve.

V. Report of FMCSA—FMCSA Representative

The Federal Motor Carrier Safety Administration (FMCSA) will provide a report on any relevant agency activity, including the status of the FMCSA's Notice of Proposed Rulemaking concerning the 2025 UCR Fee Rulemaking.

VI. Procedure for Amendment of the UCR Agreement—UCR Legal Counsel

For Discussion and Possible Board Action

UCR Legal Counsel will continue the discussion regarding a proposed procedure to amend the UCR Agreement that began in the April 4, 2024 Board meeting. The revised proposed procedure to amend the UCR Agreement will be reviewed by UCR Legal Counsel with the Board. Upon conclusion of the review, the Board may consider action to approve the proposed procedure to amend the UCR Agreement.

VII. Subcommittee Reports

Finance Subcommittee—UCR Finance Subcommittee Chair and UCR Depository Manager

A. Distribution From the UCR Depository for Under-Cap States—UCR Plan Administrator

The UCR Finance Subcommittee Chair and the UCR Plan Administrator will provide an update on the distribution of fees from the UCR Depository to the states for the 2024 registration year.

B. UCR Administrative Fund Update—UCR Plan Administrator

The UCR Plan Administrator will provide an update on the financial status of the administrative fund for the 4 months ended April 30, 2024.

Audit Subcommittee—UCR Audit Subcommittee Chair, UCR Audit Subcommittee Vice-Chair

A. Present the 2023 Annual State Audit Report to the Board—UCR Audit Subcommittee Chair

The UCR Audit Subcommittee Chair will present the 2023 Annual State Audit Report to the Board. In so doing, the UCR Audit Subcommittee Chair will review the 2023 Audit Snapshot along with the six initiatives that each State is evaluated on. To achieve qualifying status, States are required to meet or exceed the minimum percentages in at least three of the six initiatives. In 2023, all 41 participating states achieved qualifying status.

B. Update the Subcommittee on the Recent Monthly Question and Answer Session for State Auditors—UCR Audit Subcommittee Chair and UCR Audit Subcommittee Vice-Chair and Executive Director

The UCR Audit Subcommittee Chair, UCR Audit Subcommittee Vice-Chair, and Executive Director will lead a discussion on the topics, value, and continuation of a series of 60-minute virtual question and answer sessions for state auditors.

Education and Training Subcommittee—UCR Education and Training Subcommittee Chair

No significant action to report.

Industry Advisory Subcommittee—UCR Industry Advisory Subcommittee Chair

The UCR Industry Advisory Subcommittee Chair will provide an update on current and planned initiatives, to include the development of a video series intended to increase participation in the UCR focused on brokers, motor carriers, and bus operators.

Enforcement Subcommittee—UCR Enforcement Subcommittee Chair

The UCR Enforcement Subcommittee Chair will provide an update on current and planned initiatives to include an update on PowerPoint training, the creation of standards for annual UCR enforcement awards and recognition, and the upcoming awareness initiative.

Dispute Resolution Subcommittee—UCR Dispute Resolution Subcommittee Chair

No significant action to report.

VIII. Contractor Reports—UCR Board Chair

UCR Executive Director Report

The UCR Executive Director will provide a report covering his recent activity for the UCR Plan including any changes in the dates of UCR meetings in 2024.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

IX. Other Business—UCR Board Chair

The UCR Board Chair will call for any other business, old or new, from the floor.

X. Adjournment—UCR Board Chair

The UCR Board Chair will adjourn the meeting.

The agenda will be available no later than 5:00 p.m. Eastern time, May 24, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-12096 Filed 5-29-24; 4:15 pm]

BILLING CODE 4910-YL-P